DEPARTMENT OF ENERGY

Federal Energy Regulatory Commission

[Project Nos. 2942-005, 2931-002, 2941-002, 2932-003, and 2897-003]

S.D. Warren Company; Notice Rejecting Proposal To Use Alternative Means of Dispute Resolution

April 21, 2003.

On March 28, 2003, S.D. Warren, pursuant to Rule 604 of the Commission's Rules of Practice and Procedure, 18 CFR 385.604, filed a request to initiate alternative dispute resolution in respect to the pending relicensing proceeding for its Dundee, Gambo, Little Falls, Mallison Falls, and Saccarappa Projects Nos. 2942, 2931, 2941, 2932, and 2897, respectively.

Rule 604(a)(1) provides that participants to a proceeding may use alternative means of dispute resolution to resolve all or part of any pending matter if the participants agree. Rule 604(e)(3) provides that a proposal to use alternative means of dispute resolution must include the signatures of all participants or evidence otherwise indicating the consent of all participants.

The proposal submitted by S.D. Warren does not include signatures of the other participants to the proceeding or evidence indicating the consent of all participants. In addition, responses to S.D. Warren's request were filed by the U.S. Department of the Interior and by American Rivers and Friends of the Presumpscot River, all participants in the relicensing proceeding. These participants object to S.D. Warren's proposal. Because the proposal does not conform to the provisions of Rule 604 requiring consent of all participants, S.D. Warren's request must be rejected.

This notice constitutes final agency action. Requests for rehearing by the Commission of this rejection must be filed within 30 days of the date of issuance of this notice, pursuant to 18 CFR 385.713.

Magalie R. Salas,
Secretary.

[FR Doc. 03-10309 Filed 4-25-03; 8:45 am]

BILLING CODE 6717-01-P